DEPARTMENT OF DEFENSE

Office of the Secretary

Defense Science Board

AGENCY: Department of Defense (DoD).

ACTION: Notice of Advisory Committee meeting.

SUMMARY: The Defense Science Board Task Force on Interference Capability will meet in closed session on August 21, 2002, in Washington, DC (place to be determined). This Task Force will review: New interference capabilities, identifying potentially high-payoff and high-threat capabilities; existing data, assessing technical merits; and potential threats to U.S. assets.

The mission of the Defense Science Board is to advise the Secretary of Defense and the Under Secretary of Defense for Acquisition, Technology & Logistics on scientific and technical matters as they affect the perceived needs of the Department of Defense. At this meeting, the Defense Science Board Task Force will review and evaluate the Department's ability to provide information on high-payoff and high-threat capabilities.

In accordance with section 10(d) of the Federal Advisory Committee Act, Pub. L. 92-463, as amended (5 U.S.C. App. II), it has been determined that this Defense Science Board Task Force meeting concerns matters listed in 5 U.S.C. 552b(c)(1) and that, accordingly, the meeting will be closed to the public.

Dated: July 23, 2002.
Patricia L. Toppings,
Alternate OSD Federal Register Liaison Officer, Department of Defense.

[FR Doc. 02-19030 Filed 7-26-02; 8:45 am]

BILLING CODE 5001-08-M